DEPARTMENT OF AGRICULTURE

Black Hills National Forest Advisory Board Public Meeting Dates Announced

AGENCY: Forest Service, USDA.

ACTION: Notice of meetings.

SUMMARY: The Black Hills National Forest Advisory Board (NFAB) has announced its meeting dates for 2010. These meetings are open to the public, and public comment is accepted at any time in writing and at the pleasure of the chairperson of the Board at each meeting for verbal comments. Persons wishing to speak may be given three minutes to address the Board, for not more than 15 minutes of public comments except at the pleasure of the chair.

Meeting dates are the third Wednesday of each month unless otherwise indicated:

January 6.

February 17.

March 17.

April 21.

May 19.

June 16.

July (No Meeting).

August 18 (Summer Field Trip—TBA).

September 15.

October 20.

November 17.

December (No Meeting).

January 5, 2011 (Tentative).

ADDRESSES: Meetings will begin at 1 p.m. and end no later than 5 p.m. at the Forest Service Center, 8221 S. Highway 16, Rapid City, SD 57702.

Agendas: The Board will consider a variety of issues related to national forest management. Agendas will be announced in advance but principally concern implementing phase two of the forest land and resource management plan and travel plan. The Board will consider such topics as integrated vegetation management (wild and prescribed fire, fuels reduction, controlling insect epidemics, invasive species), travel management (off highway vehicles, the new OHV rule, and related topics), and forest fragmentation, among others.

FOR FURTHER INFORMATION CONTACT: Frank Carroll, Committee Management Officer, Black Hills National Forest, 25041 North Highway 16, Custer, SD 57730, (605) 673-9200.

Dated: December 1, 2009.
Dennis Jaeger,
Deputy Forest Supervisor.

[FR Doc. E9-29929 Filed 12-16-09; 8:45 am]

BILLING CODE 3410-11-M